DEPARTMENT OF TRANSPORTATION

Federal Aviation Administration

14 CFR Part 39

[Docket No. FAA-2013-0671; Directorate Identifier 2013-NM-124-AD; Amendment 39-17547; AD 2013-16-09]

RIN 2120-AA64

Airworthiness Directives; Airbus Airplanes

AGENCY: Federal Aviation Administration (FAA), Department of Transportation (DOT).

ACTION: Final rule; request for comments.

SUMMARY: We are adopting a new airworthiness directive (AD) for all Airbus Model A318, A319, A320, and A321 series airplanes. This AD requires an inspection to determine airplane configuration and part numbers of the landing gear control interface unit and main landing gear (MLG) door actuators; and, for affected airplanes, repetitive inspections of the opening sequence of the MLG door actuator, and replacement of the MLG door actuator if necessary. This AD also provides optional terminating action for the repetitive inspections. This AD was prompted by a report of a MLG failing to extend during landing, and a determination that a certain configuration of landing gear control interface unit and actuators may result in masking of centralized fault display system messages that are necessary to mitigate risks associated with failure of MLG extension or down-locking. We are issuing this AD to detect and correct such a configuration, which could prevent the full extension or down-locking of the MLG, possibly resulting in MLG collapse during landing and consequent damage to the airplane and injury to occupants.

DATES: This AD becomes effective August 23, 2013.

The Director of the Federal Register approved the incorporation by reference of certain publications listed in this AD as of August 23, 2013.

We must receive comments on this AD by September 23, 2013.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

Examining the AD Docket

You may examine the AD docket on the Internet at http://www.regulations.gov; or in person at the Docket Operations office between 9 a.m. and 5 p.m., Monday through Friday, except Federal holidays. The AD docket contains this AD, the Mandatory Continuing Airworthiness Information (MCAI), the regulatory evaluation, any comments received, and other information. The street address for the Docket Operations office (telephone (800) 647-5527) is in the ADDRESSES section. Comments will be available in the AD docket shortly after receipt.

FOR FURTHER INFORMATION CONTACT: Sanjay Ralhan, Aerospace Engineer, International Branch, ANM-116, Transport Airplane Directorate, FAA, 1601 Lind Avenue SW., Renton, WA 98057-3356; telephone (425) 227-1405; fax (425) 227-1149.

SUPPLEMENTARY INFORMATION:

Discussion

The European Aviation Safety Agency (EASA), which is the Technical Agent for the Member States of the European Community, has issued EASA Emergency Airworthiness Directive 2013-0132-E, dated June 25, 2013 (referred to after this as the “the MCAI”), to correct an unsafe condition for the specified products. The MCAI states:

Some operators reported slow operation of the main landing gear (MLG) door opening/closing sequence, leading to the generation of Centralized Fault Display System (CFDS) messages/ECAM [electronic centralized aircraft monitor] warnings during the landing gear retraction or extension sequence. Investigations showed that the damping ring and associated retaining ring of the MLG door actuator deteriorate. The resultant debris increases the friction inside the actuator which can be sufficiently high to restrict opening of the MLG door by gravity, during operation of the landing gear alternate (free-fall) extension system.

This condition, if not detected and corrected, could prevent the full extension and/or down-locking of the MLG, possibly resulting in MLG collapse during landing and consequent damage to the aeroplane and injury to occupants.

To address this potential unsafe condition, EASA issued [EASA] AD 2011-0069 (currently at R1) [http://ad.easa.europa.eu/blob/easa_ad_2011_0069_R1.pdf/AD_2011-0069R1_1] [which corresponds to FAA AD 2011-13-11, Amendment 39-16734 (76 FR 37241, June 27, 2011)] to require an amendment of the applicable Airplane Flight Manual (AFM), repetitive checks of specific CFDS messages, and repetitive inspections of the opening sequence of the MLG door actuator and, depending on findings, corrective action.

Since that AD [EASA AD 2011-0069R1] was issued, following a recent occurrence with a gear extension problem, additional analyses by Airbus have revealed that the CFDS expected specific messages may be not generated and as a result, repetitive checks of messages are not effective for aeroplanes fitted with landing gear control interface unit (LGCIU) interlink communication ARINC 429 (applied in production through Airbus Modification (mod.) 39303, or in service through Airbus Service Bulletin (SB) A320-32-1409), in combination with certain LGCIUs and MLG door actuators installed.

For the reasons described above, this [EASA] Emergency AD requires identification of the affected aeroplanes to establish the configuration and, for those aeroplanes, repetitive inspections of the opening sequence of the MLG door actuator and, depending on findings, replacement of the MLG door actuator.

This [EASA] AD also provides optional terminating action by disconnection of the interlink for certain LGCIUs, or in-service modification of the aeroplane by installation of MLG actuator Part Number (P/N) 114122014 through Airbus SB A320-32-1407 (Airbus production mod. 153655).

Doing an inspection of the door opening sequence of the left-hand and right-hand doors of the MLG of an airplane, as required by paragraph (h) of this AD, is an acceptable alternative method to comply with the requirements of paragraphs (j) and (l) of AD 2011-13-11, Amendment 39-16734 (76 FR 37241, June 27, 2011), for that airplane.

You may obtain further information by examining the MCAI in the AD docket.

Relevant Service Information

Airbus has issued Alert Operators Transmission (AOT) A32N001-13, dated June 24, 2013; and Airbus Service Bulletin A320-32-1407, dated May 14, 2013. The actions described in this service information are intended to correct the unsafe condition identified in the MCAI.

FAA's Determination and Requirements of This AD

This product has been approved by the aviation authority of another country, and is approved for operation in the United States. Pursuant to our bilateral agreement with the State of Design Authority, we have been notified of the unsafe condition described in the MCAI and service information referenced above. We are issuing this AD because we evaluated all pertinent information and determined the unsafe condition exists and is likely to exist or develop on other products of the same type design.

FAA's Determination of the Effective Date

An unsafe condition exists that requires the immediate adoption of this AD. The FAA has found that the risk to the flying public justifies waiving notice and comment prior to adoption of this rule. Since the issuance of FAA AD 2011-13-11, Amendment 39-16734 (76 FR 37241, June 27, 2011), we have received a report of a MLG failing to extend during landing. We have also been notified that a certain configuration of LGCIU and actuators may result in masking of CFDS messages that are necessary to mitigate risks associated with failure of MLG extension or down-locking. This condition could possibly result in MLG collapse during landing and consequent damage to the airplane and injury to occupants. Therefore, we determined that notice and opportunity for public comment before issuing this AD are impracticable and that good cause exists for making this amendment effective in fewer than 30 days.

Comments Invited

This AD is a final rule that involves requirements affecting flight safety, and we did not precede it by notice and opportunity for public comment. We invite you to send any written relevant data, views, or arguments about this AD. Send your comments to an address listed under the ADDRESSES section. Include “Docket No. FAA-2013-0671; Directorate Identifier 2013-NM-124-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Costs of Compliance

We estimate that this AD affects 851 airplanes of U.S. registry.

We estimate the following costs to comply with this AD:

Estimated Costs
Action | Labor cost | Parts cost | Cost per product | Cost on U.S. operators
Configuration and part number determination | 1 work-hour × $85 per hour = $85 | $0 | $85 | $72,335.
MLG door repetitive inspection | 2 work-hours × $85 per hour = $170 per inspection cycle | $0 | $170 per inspection cycle | $144,670 per inspection cycle.

We have received no definitive data that would enable us to provide cost estimates for the on-condition actions specified in this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2013-16-09 Airbus: Amendment 39-17547. Docket No. FAA-2013-0671; Directorate Identifier 2013-NM-124-AD.

(a) Effective Date

This airworthiness directive (AD) becomes effective August 23, 2013.

(b) Affected ADs

This AD affects AD 2011-13-11, Amendment 39-16734 (76 FR 37241, June 27, 2011), by providing an alternative method to comply with the requirements of paragraphs (j) and (l) of AD 2011-13-11.

(c) Applicability

This AD applies to the Airbus airplanes, certificated in any category, identified in paragraphs (c)(1), (c)(2), (c)(3), and (c)(4) of this AD, all manufacturer serial numbers.

(1) Model A318-111, -112, -121, and -122 airplanes.

(2) Model A319-111, -112, -113, -114, -115, -131, -132, and -133 airplanes.

(3) Model A320-111, -211, -212, -214, -231, -232, and -233 airplanes.

(4) Model A321-111, -112, -131, -211, -212, -213, -231, and -232 airplanes.

(d) Subject

Air Transport Association (ATA) of America Code 32, Landing gear.

(e) Reason

This AD was prompted by a report of a main landing gear (MLG) failing to extend during landing, and a determination that a certain configuration of landing gear control interface unit (LGCIU) and actuators may result in masking of centralized fault display system messages that are necessary to mitigate risks associated with failure of MLG extension or down-locking. We are issuing this AD to detect and correct such a configuration, which could prevent the full extension or down-locking of the MLG, possibly resulting in MLG collapse during landing and consequent damage to the airplane and injury to occupants.

(f) Compliance

You are responsible for having the actions required by this AD performed within the compliance times specified, unless the actions have already been done.

(g) Configuration and Part Number (P/N) Determination

At the later of the compliance times specified in paragraphs (g)(1) and (g)(2) of this AD: Do an inspection to determine the configuration (modification status) of the airplane and identify the part number of the left-hand (LH) and right-hand (RH) LGCIU and MLG door actuators. A review of the airplane delivery or maintenance records is acceptable for compliance with the requirements of this paragraph provided the airplane configuration and installed components can be conclusively determined from that review.

(1) Prior to the accumulation of 800 total flight cycles since first flight of the airplane.

(2) Within 14 days after the effective date of this AD.

(h) MLG Door Opening Sequence Repetitive Inspections

If, during the determination and identification required by paragraph (g) of this AD, the configuration of the airplane is determined to be Airbus post-modification 39303 or post-Airbus Service Bulletin A320-32-1409 (Interlink Communication ARINC 429 installed), and both an LGCIU and a MLG door actuator are installed with a part number listed in table 1 to paragraph (h) of this AD: Except as provided by paragraph (k) of this AD, at the later of the compliance times specified in paragraphs (g)(1) and (g)(2) of this AD, and thereafter at intervals not to exceed 8 days or 5 flight cycles, whichever occurs later, do an inspection of the door opening sequence of the LH and RH MLG doors, in accordance with the instructions of Airbus Alert Operators Transmission (AOT) A32N001-13, dated June 24, 2013.

Table 1 to Paragraph (h) of This AD
Component name | Part No.
LGCIU (LH and RH) | 80-178-02-88012
LGCIU (LH and RH) | 80-178-03-88013
MLG door actuator | 114122006
MLG door actuator | 114122007
MLG door actuator | 114122009
MLG door actuator | 114122010
MLG door actuator | 114122011
MLG door actuator | 114122012

(i) MLG Door Opening Sequence Corrective Action

If a slow door operation or restricted extension is found during any inspection required by paragraph (h) of this AD: Before further flight, replace the affected MLG door actuator with a new or serviceable actuator, in accordance with the instructions of Airbus AOT A32N001-13, dated June 24, 2013.

(j) Repetitive Inspection—Terminating Action

Replacement of a MLG door actuator, as required by paragraph (i) of this AD, does not constitute terminating action for the repetitive inspections required by paragraph (h) of this AD, unless MLG door actuators having P/N 114122014 are installed on both LH and RH sides, in accordance with the Accomplishment Instructions of Airbus Service Bulletin A320-32-1407, dated May 14, 2013.

(k) Repetitive Inspection Exception

Airplanes on which the LGCIU interlink is disconnected (Airbus modification 155522 applied in production, or modified in-service in accordance with the instructions of Airbus AOT A32N001-13, dated June 24, 2013), or on which MLG door actuators having P/N 114122014 are installed on both LH and RH sides (Airbus modification 153655 applied in production, or modified in-service in accordance with the Accomplishment Instructions of Airbus Service Bulletin A320-32-1407, dated May 14, 2013), are not required to do the actions required by paragraph (h) of this AD, provided that the airplane is not modified to a configuration as defined in paragraph (h) of this AD.

(l) Alternative Action for AD 2011-13-11, Amendment 39-16734 (76 FR 37241, June 27, 2011)

Doing an inspection of the door opening sequence of the LH and RH doors of the MLG of an airplane, as required by paragraph (h) of this AD, is an acceptable alternative method to comply with the requirements of paragraphs (j) and (l) of AD 2011-13-11, Amendment 39-16734 (76 FR 37241, June 27, 2011), for that airplane.

(m) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Sanjay Ralhan, Aerospace Engineer, International Branch, ANM-116, Transport Airplane Directorate, FAA, 1601 Lind Avenue SW., Renton, WA 98057-3356; telephone (425) 227-1405; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(n) Special Flight Permits

Special flight permits may be issued in accordance with sections 21.197 and 21.199 of the Federal Aviation Regulations (14 CFR 21.197 and 21.199) to operate the airplane to a location where the airplane can be modified (if the operator elects to do so), provided the MLG remains extended and locked, and that no MLG recycle is done.

(o) Related Information

Refer to Mandatory Continuing Airworthiness Information European Aviation Safety Agency Emergency Airworthiness Directive 2013-0132-E, dated June 25, 2013, for related information, which can be found in the AD docket on the internet at http://www.regulations.gov.

(p) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Airbus Alert Operators Transmission A32N001-13, dated June 24, 2013.

(ii) Airbus Service Bulletin A320-32-1407, dated May 14, 2013.

(3) For service information identified in this AD, contact Airbus, Airworthiness Office—EIAS, 1 Rond Point Maurice Bellonte, 31707 Blagnac Cedex, France; telephone +33 5 61 93 36 96; fax +33 5 61 93 44 51; email account.airworth-eas@airbus.com; Internet http://www.airbus.com.

(4) You may review copies of the service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on July 26, 2013.
Stephen P. Boyd,
Acting Manager, Transport Airplane Directorate, Aircraft Certification Service.

[FR Doc. 2013-19023 Filed 8-7-13; 8:45 am]

BILLING CODE 4910-13-P